DEPARTMENT OF ENERGY

Federal Energy Regulatory Commission

Combined Notice of Filings #1

Take notice that the Commission received the following exempt wholesale generator filings:

Docket Numbers: EG22-24-000.

Applicants: Meadow Lake Solar Park LLC.

Description: Notice of Self-Certification of Exempt Wholesale Generator Status of Meadow Lake Solar Park LLC.

Filed Date: 11/16/21.

Accession Number: 20211116-5195.

Comment Date: 5 p.m. ET 12/7/21.

Take notice that the Commission received the following Complaints and Compliance filings in EL Dockets:

Docket Numbers: EL22-11-000.

Applicants: Salt Creek Solar, LLC v. Southwest Power Pool, Inc.

Description: Complaint of Salt Creek Solar LLC v. Southwest Power Pool Inc. Requesting Fast Track Processing.

Filed Date: 11/12/21.

Accession Number: 20211112-5370.

Comment Date: 5 p.m. ET 12/2/21.

Docket Numbers: EL22-12-000.

Applicants: Persimmon Creek Wind Farm 1, LLC.

Description: Petition for Declaratory Order of Persimmon Creek Wind Farm 1, LLC.

Filed Date: 11/12/21.

Accession Number: 20211112-5393.

Comment Date: 5 p.m. ET 12/13/21.

Take notice that the Commission received the following electric rate filings:

Docket Numbers: ER22-170-001.

Applicants: Midcontinent Independent System Operator, Inc.

Description: Tariff Amendment: 2021-11-17_SA 3194 Wolf Run Solar-Ameren Illinois Substitute 1st Rev GIA (J641) to be effective 10/6/2021.

Filed Date: 11/17/21.

Accession Number: 20211117-5134.

Comment Date: 5 p.m. ET 12/8/21.

Docket Numbers: ER22-416-000.

Applicants: Indra Power Business NJ, LLC.

Description: Baseline eTariff Filing: Tariffs and Agreements to be effective 1/16/2022.

Filed Date: 11/17/21.

Accession Number: 20211117-5000.

Comment Date: 5 p.m. ET 12/8/21.

Docket Numbers: ER22-417-000.

Applicants: Southwestern Electric Power Company.

Description: Compliance filing: Revised and Restated Minden PSA to be effective 4/24/2021.

Filed Date: 11/17/21.

Accession Number: 20211117-5070.

Comment Date: 5 p.m. ET 12/8/21.

Docket Numbers: ER22-418-000.

Applicants: New York Independent System Operator, Inc.

Description: § 205(d) Rate Filing: 205 filing of revisions to enhancements of CSR implementation to be effective 12/31/9998.

Filed Date: 11/17/21.

Accession Number: 20211117-5075.

Comment Date: 5 p.m. ET 12/8/21.

Docket Numbers: ER22-419-000.

Applicants: PJM Interconnection, L.L.C.

Description: § 205(d) Rate Filing: Original ISA/CSA, Service Agreement Nos. 6220/6221; Queue No. AB2-037 to be effective 10/18/2021.

Filed Date: 11/17/21.

Accession Number: 20211117-5103.

Comment Date: 5 p.m. ET 12/8/21.

Docket Numbers: ER22-420-000.

Applicants: Wisconsin Public Service Corporation.

Description: § 205(d) Rate Filing: Filing of Reactive Revenue Requirement for Two Creeks to be effective 11/18/2021.

Filed Date: 11/17/21.

Accession Number: 20211117-5111.

Comment Date: 5 p.m. ET 12/8/21.

Docket Numbers: ER22-421-000.

Applicants: Tri-State Generation and Transmission Association, Inc.

Description: § 205(d) Rate Filing: Service Agreement No. 897 to be effective 1/18/2021.

Filed Date: 11/17/21.

Accession Number: 20211117-5165.

Comment Date: 5 p.m. ET 12/8/21.

Docket Numbers: ER22-422-000.

Applicants: Tri-State Generation and Transmission Association, Inc.

Description: § 205(d) Rate Filing: Service Agreement No. 898 to be effective 2/15/2021.

Filed Date: 11/17/21.

Accession Number: 20211117-5170.

Comment Date: 5 p.m. ET 12/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2021.
Debbie-Anne A. Reese,
Deputy Secretary.

[FR Doc. 2021-25546 Filed 11-22-21; 8:45 am]

BILLING CODE 6717-01-P